DEPARTMENT OF TRANSPORTATION

Surface Transportation Board

49 CFR Part 1250

[Docket No. EP 724 (Sub-No. 4)]

United States Rail Service Issues—Performance Data Reporting

AGENCY: Surface Transportation Board (the Board or STB), Department of Transportation.

ACTION: Notice of proposed rulemaking.

SUMMARY: Through this Notice of Proposed Rulemaking, the Board is proposing to establish new regulations requiring all Class I railroads and the Chicago Transportation Coordination Office (CTCO), through its Class I members, to report certain service performance metrics on a weekly basis.

DATES: Comments are due by March 2, 2015. Reply comments are due by April 29, 2015.

ADDRESSES: Comments and replies may be submitted either via the Board's e-filing format or in the traditional paper format. Any person using e-filing should attach a document and otherwise comply with the instructions at the E-FILING link on the Board's Web site, at http://www.stb.dot.gov. Any person submitting a filing in the traditional paper format should send an original and 10 copies to: Surface Transportation Board, Attn: Docket No. EP 724 (Sub-No. 4), 395 E Street SW., Washington, DC 20423-0001.

Copies of written comments and replies will be available for viewing and self-copying at the Board's Public Docket Room, Room 131, and will be posted to the Board's Web site. Copies will also be available (for a fee) by contacting the Board's Chief Records Officer at (202) 245-0238 or 395 E Street SW., Washington, DC 20423-0001.

FOR FURTHER INFORMATION CONTACT: Valerie Quinn at (202) 245-0382. Assistance for the hearing impaired is available through the Federal Information Relay Service (FIRS) at (800) 877-8339.

SUPPLEMENTARY INFORMATION: The Surface Transportation Board has been closely monitoring the rail industry's performance since service problems began to emerge in late 2013. Service challenges have impacted a wide range of commodities, including grain, fertilizer, ethanol, coal, automobiles, chemicals, propane, consumer goods, crude oil, and industrial commodities.

In response to the service challenges affecting this broad cross-section of rail shippers, the Board held two public hearings this year, in April in Washington, DC, and in September in Fargo, N.D., to provide the opportunity for interested persons to report on service problems, to hear from rail industry executives on plans to address rail service problems, and to explore additional options to improve service. During and after these hearings, shippers expressed concerns about the lack of publicly available information related to rail service and requested access to performance data from the railroads to better understand the scope, magnitude, and impact of the service issues,¹ as well as the underlying causes and the prospects for recovery.

¹ See generally National Grain and Feed Association Letter, U.S. Rail Serv. Issues, EP 724 (filed May 6, 2014); Western Coal Traffic League Letter, U.S. Rail Serv. Issues, EP 724 (filed Apr. 17, 2014); Apr. Hr'g Tr. 154-155, U.S. Rail Serv. Issues, EP 724 (Apr. 10, 2014); Western Coal Traffic League Statement 5-6, U.S. Rail Serv. Issues, EP 724 (filed Sept. 5, 2014); Sept. Hr'g Tr. 48, 290, U.S. Rail Serv. Issues, EP 724 (Sept. 4, 2014).

Based on these concerns and our own need to better understand railroad operating conditions, on October 8, 2014, the Board ordered all Class I railroads and the Class I railroad members of the CTCO to file weekly reports on an interim basis, containing specific performance data. See U.S. Rail Serv. Issues—Data Collection (Interim Data Order), EP 724 (Sub-No. 3) (STB served Oct. 8, 2014). Specifically, railroads were asked to report weekly average train speeds, weekly average terminal dwell times, weekly average cars online, number of trains held short of destination or scheduled interchange, and loading metrics for grain and coal service, among other items. The data were intended to give both the Board and its stakeholders access to near real-time information about the operations and performance of the Class I railroads, and the fluidity of the Chicago gateway. In addition, the data were expected to assist rail shippers in making logistics decisions, planning operations and production, and mitigating losses amid the challenging railroad operating environment.

On October 22, 2014, the Class I railroads and the Association of American Railroads (AAR) (on behalf of the CTCO) filed the first set of weekly reports in response to the Interim Data Order. As requested by the Board, each carrier also provided an explanation of its methodology for deriving performance data in response to each request. Generally, the responses corresponded to the elements of the Interim Data Order; however, some railroads approached individual requests differently, leading to variations in the reported data. The different approaches primarily were due to the railroads' disparate data-keeping systems, different railroad operating practices, and/or unintended ambiguities in certain requests. Certain railroads also departed from the Board's prescribed reporting in order to maintain consistency with their own weekly data runs and analysis. For the most part, however, railroads made reasonable efforts to respond to each request, substituting analogous data when precise information could not readily be derived.

In addition to the weekly data reports, AAR, on behalf of its Class I freight railroad members (except Canadian Pacific Railway Company (CP)), submitted a letter to the Board indicating that it believes the public, the Board, and the railroads would have benefited from “[a] constructive public discourse regarding service data [which] could have led to a more productive and less burdensome collection of information that would have satisfied the Board's regulatory objectives.” ² With the first several weeks of filings in response to the Interim Data Order complete, we invite public comment to determine whether to establish new regulations for permanent reporting and to receive constructive input to revise, as necessary, and improve the existing data reporting structure.

² AAR Letter 1, U.S. Rail Serv. Issues—Data Collection, EP 724 (Sub-No. 3) (filed Oct. 22, 2014).

The weekly filings have allowed the Board and rail stakeholders to monitor the industry's performance in near real-time, and allowed the Board to begin to develop baseline performance data. Based on the Board's experience with the reporting to date, and as expressly contemplated in the Interim Data Order, the Board is now moving forward with a rulemaking to determine whether to establish new regulations for permanent reporting by the members of the Class I railroad industry, the Class I carriers operating in the Chicago gateway, and the CTCO through its Class I members. The permanent collection of performance data on a weekly basis would allow continuity of the current reporting and improve the Board's ability to identify and help resolve future regional or national service disruptions more quickly, should they occur. Transparency would also benefit rail shippers and other stakeholders, by helping them to better plan operations and make informed decisions based on publicly available, near real-time data, and their own analysis of performance trends over time.

The proposed data requirements have been designed to impose as small a burden as possible on the carriers that would be subject to the rule, while achieving the Board's goal of continued rail service performance transparency. The Board believes that the benefit to the Board, rail shippers, and other stakeholders would outweigh the burden of reporting under the proposed rule. The data collected pursuant to the rule would continue to provide for service performance transparency in the industry and allow the Board to more rapidly identify and respond to service performance issues.

Accordingly, the Board seeks public comments on proposed new regulations to be codified at 49 CFR 1250.1-1250.3 to require Class I rail carriers, Class I carriers operating in the Chicago gateway, and the CTCO, through its Class I members, to submit to the Board weekly reports on railroad performance. The proposed reporting requirements are based on and include those contained in the Interim Data Order, but include the following modifications:

• In subsection (a), instructions have been added to Requests nos. 1-3 to align the requests with performance data being published by AAR;

• In subsection (a), Request no. 4 has been modified to capture average dwell time for “loaded” unit trains at origin “or interchange receipt,” and to clarify that the data is to be reported by the railroad receiving the loaded train at a shipper facility or interchange location;

• In subsection (a), Requests nos. 5 and 6 have been revised to cure ambiguities that emerged during the initial reporting periods and to clarify the data intended to be reported. Request no. 5 is intended to capture every instance during the reporting week in which specific types of loaded or empty trains are held at a location on the reporting railroad's system short of destination or scheduled interchange for longer than six consecutive hours. Request no. 6 is intended to capture an average of daily snap shots of cars in specific services that have not moved for the specified durations (48-120 hours; greater than 120 hours);

• In subsection (a), Request no. 9 has been deleted from the proposed requirements because it appears to have limited application to the carriers' disparate grain unit train operations; however, we ask that commenters propose an appropriate measure to capture performance data for grain unit train operations;

• In subsection (a), Request no. 10 has been renumbered as Request no. 9 and revised to allow carriers to report weekly total coal unit train loadings or weekly total coal car loadings by coal production region;

• In subsection (b), Request no. 1 has been modified to clarify that the request is for the average daily car “volume” at the key Chicago yards, meaning cars on hand, rather than cars processed;

• In subsection (b), Request no. 2 has been modified to clarify the method for deriving trains held outside the Chicago gateway;

• A new item has been added in subsection (d) to request a quarterly listing of all work-in-progress, major rail infrastructure projects, including project location by state, planned completion date for the project, percentage complete at the time of reporting, and project description and purpose. For purposes of this request, “work-in-progress” refers to projects for which ground breaking has taken place, “major” refers to any rail infrastructure project budgeted at $25 million or more over the life of the project, and “rail infrastructure” refers to capacity expansion or enhancement projects, excluding maintenance-of-way.

BILLING CODE 4915-01-P

As the Board noted in the Interim Data Order, at both hearings, carriers cited congestion in Chicago as one significant cause of the service problems.³ While congestion in the area was particularly acute last winter, it has been a recurring problem at this crucial network hub. The Board continues to recognize the longstanding importance of Chicago as a hub in national rail operations and the impact that recent extreme congestion in Chicago has had on rail service in the Upper Midwest and nationwide. CP asserts, in its response to the Interim Data Order, that if either the Belt Railway of Chicago (BRC) or the Indiana Harbor Belt Railroad (IHB) becomes congested, the Chicago Terminal then becomes congested and that congestion then “reverberates throughout the system.” ⁴ CP urges the Board to require BRC and IHB to report appropriate metrics on a weekly basis.⁵ Under the Interim Data Order, AAR has been reporting average daily car counts in key Chicago area yards, including Clearing and Blue Island, which are BRC and IHB yards, respectively. Commenters are invited to propose the reporting of additional metrics, from the BRC and IHB or others, that could improve oversight and support a better understanding of service issues in the Chicago area. Finally, the Board in the Interim Data Order directed the Class I members of the CTCO to file a general summary of the CTCO's service contingency protocols. However, given that the Chicago gateway remains a concern, we believe that having more information about how the Class I carriers are managing operations in Chicago would be beneficial. Accordingly, the Class I members of the CTCO are directed to file a detailed explanation of the CTCO's service contingency protocols, including the protocol triggers and countermeasures. Should the members need to provide proprietary information to sufficiently explain the CTCO protocols (such as car counts and specific locations that trigger the protocols), they may request a protective order.

³ Apr. Hr'g Tr. 186-87, 208, U.S. Rail Serv. Issues, EP 724 (Apr. 10, 2014); North Dakota Public Service Commission Comments 3, U.S. Rail Serv. Issues, EP 724 (filed Sept. 4, 2014).

⁴ CP Comment 1, U.S. Rail Serv. Issues—Data Collection, EP 724 (Sub-No. 3) (filed Oct. 22, 2014).

⁵ Id.

The Board also asks that Class I railroads comment on the capabilities of their respective internal data-keeping systems for capturing and generating data and the appropriate timeframe (i.e., starting day and ending day) for the reporting week and for filing reports. Commenters are also asked to address whether and how geographical parameters could be practically incorporated into the requests in order to identify parts of the freight rail network experiencing acute congestion or service issues. The proposed rules address the same specific commodities covered under the Interim Data Order. If commenters believe it would advance the Board's goals, they may include metrics focused on other commodities along with an explanation of why it would be beneficial to collect that information.⁶ Additionally, commenters may propose revised definitions for terms used in the data requests, such as “unit train,” if they believe such revised definitions would be necessary or helpful to the uniform collection of data, and methodologies for deriving data.

⁶ On October 24, 2014, The Fertilizer Institute submitted a letter asking the Board to require separate reporting with regard to fertilizer shipments. The Fertilizer Institute Letter 1-2, U.S. Rail Serv. Issues—Data Collection, EP 724 (Sub-No. 3) (filed Oct. 24, 2014).

Additionally, on October 22, 2014, Kansas City Southern Railway Company (KCS) filed a petition for a waiver from certain requirements due to the nature of its grain business and its very limited number of customers in a discrete number of states in its service territory.⁷ In response to the petition, the Board proposes to exempt KCS from filing state-specific information in response to Request nos. 7 and 8. Commenters may address whether this exemption is appropriate.

⁷ See KCS Petition for Waiver, U.S. Rail Serv. Issues—Data Collection, EP 724 (Sub-No. 3) (filed Oct. 22, 2014).

Because the Board is considering whether to implement a standardized set of weekly reporting requirements, proposals for new reporting items should take into account whether they may be obtained from data likely maintained by railroads in the ordinary course of business. Proposed items should not call for narrative responses or impose requirements that vary from week to week. Also, the Class I railroads are asked to comment on which requests can be reported through AAR or Railinc Corporation ⁸ on behalf of the industry.

⁸ Railinc Corporation provides information technology, applications, and electronic data services to the North American freight railway industry. It is a wholly-owned subsidiary of AAR. See Railinc, Company Overview, https://www.railinc.com/rportal/company-overview (last visited Dec. 19, 2014).

In seeking public comments, the Board requests that interested stakeholders evaluate the utility of each data request, offer proposed modifications, and/or propose other requests that would assist the Board and the public in gaining complete and accurate near real-time assessment of the performance of Class I railroads.

Regulatory Flexibility Act. The Regulatory Flexibility Act of 1980 (RFA), 5 U.S.C. 601-612, generally requires a description and analysis of new rules that would have a significant economic impact on a substantial number of small entities. In drafting a rule, an agency is required to: (1) Assess the effect that its regulation will have on small entities; (2) analyze effective alternatives that may minimize a regulation's impact; and (3) make the analysis available for public comment. §§ 601-604. In its notice of proposed rulemaking, the agency must either include an initial regulatory flexibility analysis, § 603(a), or certify that the proposed rule would not have a “significant impact on a substantial number of small entities.” § 605(b). The impact must be a direct impact on small entities “whose conduct is circumscribed or mandated” by the proposed rule. White Eagle Coop. v. Conner, 553 F.3d 467, 480 (7th Cir. 2009).

The rules proposed here would not have a significant economic impact upon a substantial number of small entities, within the meaning of the RFA. The reporting requirements would apply only to Class I rail carriers, which, under the Board's regulations, have annual carrier operating revenues of $250 million or more in 1991 dollars (adjusted for inflation using 2013 data, the revenue threshold for a Class I rail carrier is $467,063,129). Class I carriers generally do not fall within the Small Business Administration's definition of a small business for the rail transportation industry.⁹ Therefore, the Board certifies under 5 U.S.C. 605(b) that this rule will not have a significant economic impact on a substantial number of small entities within the meaning of the RFA. A copy of this decision will be served upon the Chief Counsel for Advocacy, Office of Advocacy, U.S. Small Business Administration, Washington, DC 20416.

⁹ The Small Business Administration's Office of Size Standards has established a size standard for rail transportation, pursuant to which a line-haul railroad is considered small if its number of employees is 1,500 or less, and a short line railroad is considered small if its number of employees is 500 or less. 13 CFR 121.201 (industry subsector 482).

Paperwork Reduction Act. Pursuant to the Paperwork Reduction Act (PRA), 44 U.S.C. 3501-3549, and Office of Management and Budget (OMB) regulations at 5 CFR 1320.8(d)(3), the Board seeks comments regarding: (1) Whether the collection of information in the proposed rule, and further described in the Appendix, is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology, when appropriate. Information pertinent to these issues is included in the Appendix. The collection in this proposed rule will be submitted to OMB for review as required under 44 U.S.C. 3507(d) and 5 CFR 1320.11.

This proposal would not significantly affect either the quality of the human environment or the conservation of energy resources.

It is ordered:

1. Comments are due by March 2, 2015. Reply comments are due by April 29, 2015.

2. A copy of this decision will be served upon the Chief Counsel for Advocacy, Office of Advocacy, U.S. Small Business Administration.

3. Notice of this decision will be published in the Federal Register.

4. The Class I members of the CTCO shall file a detailed explanation of the CTCO's service contingency protocols, including the protocol triggers and countermeasures, by January 14, 2015.

5. This decision is effective on its service date.

List of Subjects

49 CFR Part 1250

Administrative practice and procedure, Railroads, Reporting and record keeping requirements.

Decided: December 30, 2014.
By the Board, Chairman Elliott, Vice Chairman Miller, and Commissioner Begeman.
Jeffrey Herzig,
Clearance Clerk.

For the reasons set forth in the preamble, the Surface Transportation Board proposes to amend title 49, chapter X, subchapter D, of the Code of Federal Regulations by adding Part 1250 as follows:

PART 1250—RAILROAD PERFORMANCE DATA REPORTING

Sec.
1250.1 Reporting Requirements
1250.2 Definitions
1250.3 Data Elements

Authority: 49 U.S.C. 721 and 11145.

§ 1250.1 Reporting Requirements.

Each Class I railroad is required to report to the Board on a weekly basis, the performance data set forth in § 1250.3(a)(1)-(9). The Class I railroads operating at the Chicago gateway are required to jointly report on a weekly basis the performance data set forth in § 1250.3(b)(1)-(2). The reports required under § 1250.3(b)(1)-(2) may be submitted by the Association of American Railroads (AAR). The data must be reported to the Board between 9 a.m. and 5 p.m. Eastern Time on Tuesday of each week, covering the previous reporting week (12:01 a.m. Sunday-11:59 p.m. Saturday). In the event that a particular Tuesday is a Federal holiday or falls on a day when STB offices are closed for any other reason, then the data should be reported on the next business day when the offices are open. The data must be filed in Excel format, using an electronic spreadsheet made available by the Board's Office of Public Assistance, Governmental Affairs, and Compliance (OPAGAC), and should be emailed to data.reporting@stb.dot.gov. Each week's report must include data only for that week, and should not include data for previous weeks. Unless otherwise provided, the data will be publicly available and posted on the Board's Web site.

§ 1250.2 Definitions.

(a) Unit train. Unit train refers to a train comprising 50 or more railcars of the same or similar type, carrying a single commodity in bulk.

§ 1250.3 Railroad Performance Data Elements.

(a) Each Class I railroad must report the following performance data elements for the reporting week. However, with regard to elements 7 and 8, Kansas City Southern Railway Company is not required to report information by State, but instead shall report system-wide data.

(1) System-average train speed by the following train types for the reporting week. (Train speed should be measured for line-haul movements between terminals. The average speed for each train type should be calculated by dividing total train-miles by total hours operated.)

(i) Intermodal

(ii) Grain unit

(iii) Coal unit

(iv) Automotive unit

(v) Crude oil unit

(vi) Ethanol unit

(vii) Manifest

(viii) All other

(2) Weekly average terminal dwell time, measured in hours, excluding cars on run-through trains (i.e., cars that arrive at, and depart from, a terminal on the same through train) for the carrier's system and its 10 largest terminals in terms of railcars processed. (Terminal dwell is the average time a car resides at a specified terminal location expressed in hours.)

(3) Weekly average cars on line by the following car types for the reporting week. (Each railroad is requested to average its daily on-line inventory of freight cars. Articulated cars should be counted as a single unit. Cars on private tracks (e.g., at a customer's facility) should be counted on the last railroad on which they were located. Maintenance-of-way cars and other cars in railroad service are to be excluded.)

(i) Box

(ii) Covered hopper

(iii) Gondola

(iv) Intermodal

(v) Multilevel (Automotive)

(vi) Open hopper

(vii) Tank

(viii) Other

(ix) Total

(4) Weekly average dwell time at origin or interchange location for loaded unit train shipments sorted by grain, coal, automotive, crude oil, ethanol, and all other unit trains. (For the purposes of this data element, dwell time refers to the time period from release of a unit train at origin or interchange location until actual movement by the receiving carrier. The data is to be reported by the receiving carrier.)

(5) The weekly total number of loaded and empty trains held short of destination or scheduled interchange for longer than six consecutive hours sorted by train type (intermodal, grain unit, coal unit, automotive unit, crude oil unit, ethanol unit, other unit, and all other) and by cause (crew, locomotive power, track maintenance, mechanical issue, or other (explain)). (This request is intended to capture every instance during the reporting week in which a loaded or empty train is held at a location on the reporting railroad's system short of its destination or scheduled interchange for longer than six consecutive hours. For example, if, during a reporting week, a coal unit train originating from the Powder River Basin, and scheduled to be interchanged in St. Louis were held for six consecutive hours in Nebraska due to crew unavailability and held again for nine consecutive hours in Iowa due to track maintenance, during the same reporting week, then this train would be reported twice in the weekly report to the STB (once for “crew” and once for “track maintenance”).)

(6) The daily average number of loaded and empty cars, operating in normal movement and billed to an origin or destination, which have not moved in (a) more than 120 hours; and (b) more than 48 hours, but less than or equal to 120 hours, sorted by service type (intermodal, grain, coal, crude oil, automotive, ethanol, or all other). In order to derive the daily averages for the reporting week, carriers are requested to run a same-time snapshot each day of the reporting week, capturing cars within each category. The number of cars captured on the daily snapshot for each category should be added, and then divided by the number of days in the reporting week (typically seven days). In deriving this data, carriers should include cars in normal service anywhere on their system, but should not include cars placed at a customer facility; in constructive placement; placed for interchange to another carrier; in bad order status; in storage; or operating in railroad service (e.g., ballast).

(7) The weekly total number of grain cars loaded and billed, reported by State, aggregated for the following Standard Transportation Commodity Codes (STCCs): 01131 (barley), 01132 (corn), 01133 (oats), 01135 (rye), 01136 (sorghum grains), 01137 (wheat), 01139 (grain, not elsewhere classified), 01144 (soybeans), 01341 (beans, dry), 01342 (peas, dry), and 01343 (cowpeas, lentils, or lupines). “Total grain cars loaded and billed” includes cars in shuttle service; dedicated train service; reservation, lottery, open and other ordering systems; and, private cars. Additionally, separately report the total cars loaded and billed in shuttle service (or dedicated train service) versus total cars loaded and billed in all other ordering systems, including private cars.

(8) For the aggregated STCCs in Item 7, report by State the following:

(i) The total number of overdue car orders (a car order equals one car; overdue means not delivered within the delivery window);

(ii) Average number of days late for all overdue grain car orders;

(iii) The total number of new orders received during the past week;

(iv) The total number of orders filled during the past week; and

(v) The number of orders cancelled, respectively, by shipper and railroad during the past week.

(9) Weekly total coal unit train loadings or car loadings for the reporting week by coal production region.

(b) The Class I railroads operating at the Chicago gateway (or AAR on behalf of the Class I railroads operating at the Chicago gateway) must jointly report the following performance data elements for the reporting week:

(1) Average daily car volume in the following Chicago area yards: Barr, Bensenville, Blue Island, Calumet, Cicero, Clearing, Corwith, Gibson, Kirk, Markham, and Proviso for the reporting week; and

(2) Average daily number of trains held for delivery to Chicago sorted by receiving carrier for the reporting week. The average daily number should be derived by taking a same time snapshot each day of the reporting week, capturing the trains held for each railroad at that time, and then adding those snapshots together and dividing by the days in the reporting week. (For purposes of this request, “held for delivery” refers to a train staged by the delivering railroad short of its scheduled arrival at the Chicago gateway at the request of the receiving railroad, and that has missed its scheduled window for arrival.)

(Note: If Chicago terminal yards not identified in § (b)(1), are included in the Chicago Transportation Coordination Office's (CTCO) assessment of the fluidity of the gateway for purposes of implementing service contingency measures, then the data requested in § (b)(1) shall also be reported for those yards.)

(c) The Class I railroad members of the CTCO (or one Class I railroad member of the CTCO designated to file on behalf of all Class I railroad members, or AAR) must:

(1) File a written notice with the Board when the CTCO changes its operating Alert Level status, within one business day of that change in status.

(2) If the CTCO revises its protocol of service contingency measures, file with the Board a detailed explanation of the new protocol, including both triggers and countermeasures, within seven days of its adoption.

(d) On a quarterly basis, each Class I railroad must report all work-in-progress, major rail infrastructure projects, including location by State, planned completion date for each project, percentage complete for each project at the time of reporting, and project description and purpose. For purposes of this request, “work-in-progress” refers to projects for which ground-breaking has taken place; “major” refers to projects whose budget equals or exceeds $25 million over the life of the project; and “rail infrastructure” refers to network capacity expansion or enhancement, excluding maintenance-of-way. The data must be reported to the Board between 9AM and 5PM Eastern Time on the first Tuesday of each quarter. In the event that the first Tuesday of a quarter is a Federal holiday or falls on a day when STB offices are closed for any other reason, then the data should be reported on the next business day when the offices are open.

The following will not appear in the CFR:

Appendix

The additional information below is included to assist those who may wish to submit comments pertinent to review under the Paperwork Reduction Act:

Description of Collection

Title: Rail Service Data Collection.

OMB Control Number: 2140-XXXX.

STB Form Number: None.

Type of Review: New collection.

Respondents: Class I railroads (on behalf of themselves and the Chicago Transportation Coordination Office (“CTCO”)).

Number of Respondents: Seven.

Estimated Time per Response: The proposed rules seek three related responses, as indicated in the table below.

Table—Estimated Time per Response
Type of responses | Estimated time per response (hours)
Weekly | 3
Quarterly | 3
On occasion | 3

Frequency: The frequencies of the three related collections sought under the proposed rules are set forth in the table below.

Table—Frequency of Responses
Type of responses | Frequency of responses (per year)
Weekly | 52
Quarterly | 4
On occasion | 2

Total Burden Hours (annually including all respondents): The recurring burden hours are estimated to be no more than 1,182 hours per year, as derived in the table below. In addition, there are some one-time, start-up costs of approximately 2 hours for each respondent filing a quarterly report that must be added to the first year's total burden hours. To avoid inflating the estimated total annual hourly burden, the two-hour start-up burden has been divided by three and spread over the three-year approval period. Thus, the total annual burden hours for each of the three years are estimated at no more than 1,186.67 hours per year.

Table—Total Burden Hours
[Per year]
Type of responses | Number of respondents | Estimated time per response (hours) | Frequency of responses (per year) | Total yearly burden hours
Weekly | 7 | 3 | 52 | 1,092
Quarterly | 7 | 3 | 4 | 84
On occasion | 1 | 3 | 2 | 6
Total |  |  |  | 1,182

Total “Non-hour Burden” Cost: None identified. Reports will be submitted electronically to the Board.

Needs and Uses: The new information collections would allow the Board to better understand current service issues and potentially to identify and resolve possible future regional and national service disruptions more quickly. Transparency would also benefit rail shippers and stakeholders, by allowing them to better plan operations and make informed business decisions based on publicly-available real-time data, and their own analysis of performance trends over time.

Retention Period: Information in this report will be maintained in the Board's files for 10 years, after which it is transferred to the National Archives.

[FR Doc. 2014-30940 Filed 1-5-15; 8:45 am]

BILLING CODE 4915-01-P